DEPARTMENT OF ENERGY

Federal Energy Regulatory Commission

Notice of Filings

Thursday, January 19, 2006.

Take notice that the Commission received the following electric rate filings:

Docket Numbers: ER06-285-000; ER06-286-000.

Applicants: Cincinnati Gas & Electric Company.

Description: The Cincinnati Gas & Electric Co & PSI Energy, Inc notifies FERC of its withdrawal of the Legacy Contract Transmission Agreement submitted on 12/1/05.

Filed Date: 01/13/2006.

Accession Number: 20060118-0186.

Comment Date: 5 p.m. Eastern Time on Friday, February 3, 2006.

Docket Numbers: ER06-379-001.

Applicants: Commonwealth Edison Co.

Description: ComEd and Midwest Generation LLC submits Attachment A Letter Agreement; Attachment B, Clean Copy of FIEA; and Exhibits Reflecting Changes Made by the Letter Agreement.

Filed Date: 01/12/2006.

Accession Number: 20060117-0222.

Comment Date: 5 p.m. Eastern Time on Thursday, February 2, 2006.

Docket Numbers: ER06-471-000.

Applicants: Pacific Gas & Electric Company.

Description: Pacific Gas and Electric Co submits an amendment to the Generator Special Facilities Agreement with Mirant Delta, LLC.

Filed Date: 01/12/2006.

Accession Number: 20060113-0126.

Comment Date: 5 p.m. Eastern Time on Thursday, February 2, 2006.

Docket Numbers: ER06-477-000.

Applicants: Aquila, Inc.

Description: Aquila, Inc dba Aquila Networks, LP files a proposed facilities modifications & construction agreement for the Cooper South Flowgate Upgrades.

Filed Date: 01/12/2006.

Accession Number: 20060117-0215.

Comment Date: 5 p.m. Eastern Time on Thursday, February 2, 2006.

Docket Numbers: ER06-478-000.

Applicants: Southern Company Services, Inc.

Description: Southern Company Services, Inc acting as agent for Alabama Power Co et al submits service agreements for network integration transmission service with Southern Company Generation et al.

Filed Date: 01/13/2006.

Accession Number: 20060117-0304.

Comment Date: 5 p.m. Eastern Time on Friday, February 3, 2006.

Docket Numbers: ER06-479-000.

Applicants: Kansas City Power & Light Company.

Description: Kansas City Power & Light Co submits compliance filing related to Order 661 & 661-A.

Filed Date: 01/13/2006.

Accession Number: 20060117-0216.

Comment Date: 5 p.m. Eastern Time on Friday, February 3, 2006.

Docket Numbers: ER06-480-000.

Applicants: Pacific Gas and Electric Company.

Description: Pacific Gas & Electric Co submits transmission access charge balancing account revisions.

Filed Date: 01/13/2006.

Accession Number: 20060117-0217.

Comment Date: 5 p.m. Eastern Time on Friday, February 3, 2006

.

Docket Numbers: ER94-1188-037.

Applicants: LG&E Energy Marketing Inc.

Description: LG&E Energy Marketing Inc resubmits corrections for certain sheets for 1/03/06 of its market-based rate tariff.

Filed Date: 01/12/2006.

Accession Number: 20060113-0080.

Comment Date: 5 p.m. Eastern Time on Thursday, February 2, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-951 Filed 1-25-06; 8:45 am]

BILLING CODE 6717-01-P